DEPARTMENT OF ENERGY

Federal Energy Regulatory Commission

Combined Notice of Filings #1

July 21, 2009.

Take notice that the Commission received the following electric rate filings:

Docket Numbers: ER06-1228-000.

Applicants: Phibro LLC.

Description: Phibro LLC submits notice of cancellation of Phibro's Third Revised Rate Schedule FERC No. 1.

Filed Date: 07/17/2009.

Accession Number: 20090720-0025.

Comment Date: 5 p.m. Eastern Time on Friday, August 07, 2009.

Docket Numbers: ER08-824-004.

Applicants: PJM Interconnection LLC.

Description: PJM Interconnection, LLC submits an errata tariff sheet to correct a ministerial error in one of the tariff sheets that it previously filed.

Filed Date: 07/21/2009.

Accession Number: 20090721-0336.

Comment Date: 5 p.m. Eastern Time on Friday, July 31, 2009.

Docket Numbers: ER08-1297-002; ER01-1071-013; ER02-1903-010; ER02-2559-009; ER03-1104-009; ER03-1105-009; ER03-34-012; ER06-1261-007; ER06-9-008; ER07-1157-004; ER07-174-007; ER07-875-003; ER08-1293-002; ER08-1294-002; ER08-1296-002; ER08-1300-002; ER08-197-006; ER08-250-003.

Applicants: Ashtabula Wind, LLC; Badger Windpower, LLC; FPL Energy Marcus Hook, L.P.; Backbone Mountain Windpower, LLC; FPL Energy North Dakota Wind, LLC; FPL Energy North Dakota Wind II, LLC; FPL Energy Hancock County Wind, LLC; FPL Energy Mower County, LLC; FPL Energy Burleigh County Wind, LLC; Logan Wind Energy LLC; Osceola Windpower, LLC; Peetz Table Wind Energy, LLC; Crystal Lake Wind, LLC; Crystal Lake Wind II, LLC; Osceola Windpower II, LLC; Story Wind, LLC; FPL Energy Oliver Wind II, LLC; Langdon Wind, LLC.

Description: NextEra Companies submits revisions to their MBR schedules to include tariff provision to allow market-based rate sellers to sell ancillary services in the Ancillary Services Market etc.

Filed Date: 07/17/2009.

Accession Number: 20090720-0104.

Comment Date: 5 p.m. Eastern Time on Friday, August 07, 2009.

Docket Numbers: ER09-1462-000.

Applicants: Lake Benton Power Partners II, LLC.

Description: Lake Benton Power Partners II, LLC submits request for authorization to sell energy and capacity at market based rates and CD containing work papers of Julie Solomon.

Filed Date: 07/17/2009.

Accession Number: 20090720-0220.

Comment Date: 5 p.m. Eastern Time on Friday, August 07, 2009.

Docket Numbers: ER09-1463-000.

Applicants: Xcel Energy Services Inc.

Description: Public Service Company of Colorado submits the proposed termination of various Umbrella Service Agreements for the Sale, Assignment or Transfer of Transmission Rights under FERC Electric Tariff, Original Volume 5.

Filed Date: 07/17/2009.

Accession Number: 20090720-0004.

Comment Date: 5 p.m. Eastern Time on Friday, August 07, 2009.

Docket Numbers: ER09-1464-000.

Applicants: Phibro LLC.

Description: Phibro LLC submits notice of cancellation of Phibro's Third Revised Rate Schedule FERC No. 1.

Filed Date: 07/17/2009.

Accession Number: 20090720-0025.

Comment Date: 5 p.m. Eastern Time on Friday, August 07, 2009.

Docket Numbers: ER09-1465-000.

Applicants: Deseret Generation & Transmission Co-operative, Inc.

Description: Deseret Generation & Transmission Co-operative, Inc. submits certain amendments to a cost-based Wholesale Power Contract dated 4/1/96, providing requirements service to one if members Garkane Energy Coop, Inc.

Filed Date: 07/17/2009.

Accession Number: 20090720-0020.

Comment Date: 5 p.m. Eastern Time on Friday, August 07, 2009.

Docket Numbers: ER09-1466-000.

Applicants: Deseret Generation & Transmission Co-operative, Inc.

Description: Deseret Generation & Transmission Co-operative, Inc submits annual Information Filing setting forth updated approved costs for member-own generation for 2009, and the resulting reimbursements by Desert.

Filed Date: 07/17/2009.

Accession Number: 20090720-0021.

Comment Date: 5 p.m. Eastern Time on Friday, August 07, 2009.

Docket Numbers: ER09-1467-000.

Applicants: Carolina Power & Light Company.

Description: Carolina Power and Light Company submits Notice of Cancellation of Rate Schedules.

Filed Date: 07/17/2009.

Accession Number: 20090720-0022.

Comment Date: 5 p.m. Eastern Time on Friday, August 07, 2009.

Docket Numbers: ER09-1468-000.

Applicants: American Electric Power Service Corporation.

Description: AEP Operating Companies submits Interconnection and Local Delivery Service Agreement between AEP and the City of Auburn.

Filed Date: 07/17/2009.

Accession Number: 20090720-0023.

Comment Date: 5 p.m. Eastern Time on Friday, August 07, 2009.

Docket Numbers: ER09-1469-000.

Applicants: PJM Interconnection, LLC.

Description: PJM Interconnection, LLC submits an executed interconnection service agreement among PJM etc.

Filed Date: 07/17/2009.

Accession Number: 20090720-0024.

Comment Date: 5 p.m. Eastern Time on Friday, August 07, 2009.

Docket Numbers: ER09-1470-000.

Applicants: ISO New England Inc. & New England Power Pool.

Description: ISO New England Inc et al submits a consolidated and revised ISO Financial Assurance Policy.

Filed Date: 07/17/2009.

Accession Number: 20090720-0226.

Comment Date: 5 p.m. Eastern Time on Friday, August 07, 2009.

Docket Numbers: ER09-1471-000.

Applicants: Pacific Gas and Electric Company.

Description: Pacific Gas and Electric Company submits letter of agreement for Phase 2 of a temporary project by PG&E and the City and County of San Francisco.

Filed Date: 07/20/2009.

Accession Number: 20090720-0224.

Comment Date: 5 p.m. Eastern Time on Monday, August 10, 2009.

Docket Numbers: ER09-1472-000.

Applicants: Viridian Energy, Inc.

Description: Viridian, Inc submits notice of succession.

Filed Date: 07/20/2009.

Accession Number: 20090720-0221.

Comment Date: 5 p.m. Eastern Time on Monday, August 10, 2009.

Docket Numbers: ER09-1473-000.

Applicants: NorthWestern Corporation.

Description: NorthWestern Corp submits an executed Large Generator Interconnection Agreement with NaturEner Glacier Wind Energy 2, LLC.

Filed Date: 07/20/2009.

Accession Number: 20090721-0252.

Comment Date: 5 p.m. Eastern Time on Monday, August 10, 2009.

Docket Numbers: ER09-1474-000.

Applicants: PacifiCorp.

Description: PacifiCorp submits Revision No 7 to Appendix A of First Revised Rate Schedule FERC No 297 et al.

Filed Date: 07/20/2009.

Accession Number: 20090721-0250.

Comment Date: 5 p.m. Eastern Time on Monday, August 10, 2009.

Docket Numbers: ER09-1475-000.

Applicants: PacifiCorp.

Description: PacifiCorp submits Original Sheet 1 et al to FERC Electric Tariff, 7th Revised Volume 11, Original Agreement No 580.

Filed Date: 07/20/2009.

Accession Number: 20090721-0249.

Comment Date: 5 p.m. Eastern Time on Monday, August 10, 2009.

Docket Numbers: ER09-1476-000; ER09-1477-000; ER04-1113-002; ER06-270-002; ER06-271-002.

Applicants: Solios Asset Management LLC; Pythagoras Global Investors L.P.; Solios Asset Management LLC; Solios Power, LLC.

Description: Solios Power, LLC et al (Relinquishing Marketers) submits Notice of Non-Material Change in Status and Notice of Cancellation of Rate Schedules.

Filed Date: 07/20/2009.

Accession Number: 20090721-0248.

Comment Date: 5 p.m. Eastern Time on Monday, August 10, 2009.

Take notice that the Commission received the following open access transmission tariff filings:

Docket Numbers: OA08-35-004.

Applicants: Xcel Energy Services, Inc.

Description: Compliance Filing of Xcel Energy Services, Inc.

Filed Date: 07/20/2009.

Accession Number: 20090720-5126.

Comment Date: 5 p.m. Eastern Time on Monday, August 10, 2009.

Docket Numbers: OA08-42-002.

Applicants: American Transmission System Operator, Inc; Midwest Independent Transmission System Operator, Inc.

Description: American Transmission System Operator, Inc et al submits their compliance filing with the changes directed by the Commission to the transmission planning principles in Attachment FF-ATCLLC.

Filed Date: 07/20/2009.

Accession Number: 20090721-0292.

Comment Date: 5 p.m. Eastern Time on Monday, August 10, 2009.

Docket Numbers: OA08-53-002.

Applicants: Midwest Independent Transmission System Operator, Inc.

Description: Midwest Independent Transmission System Operator, Inc submits compliance filing revising its Open Access Transmission, Energy and Operating Reserve Markets Tariff and Open Access Transmission and Energy Markets Tariff.

Filed Date: 07/20/2009.

Accession Number: 20090721-0291.

Comment Date: 5 p.m. Eastern Time on Monday, August 10, 2009.

Docket Numbers: OA08-62-005.

Applicants: California Independent System Operator Corporation.

Description: California Independent System Operator Corp. submits filing to comply with the Commission's 5/21/09 Order Denying Rehearing and on Compliance and conditional accepting the ISO's 10/31/08 compliance filing.

Filed Date: 07/20/2009.

Accession Number: 20090721-0293.

Comment Date: 5 p.m. Eastern Time on Monday, August 10, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E9-18101 Filed 7-29-09; 8:45 am]

BILLING CODE 6717-01-P